DEPARTMENT OF ENERGY

10 CFR Part 431

[Docket Number EERE-2006-STD-0127]

RIN 1904-AB93

Energy Conservation Program: Energy Conservation Standards for Certain Consumer Products (Dishwashers, Dehumidifiers, Microwave Ovens, and Electric and Gas Kitchen Ranges and Ovens) and for Certain Commercial and Industrial Equipment (Commercial Clothes Washers); Correction

AGENCY: Office of Energy Efficiency and Renewable Energy, Department of Energy.

ACTION: Final rule; correction.

SUMMARY: This final rule reinstates in Department of Energy (DOE) regulations the energy and water conservation standards required by the Energy Policy Act of 2005 (EPACT 2005) for commercial clothes washers (CCWs) until January 1, 2013. In the final rule establishing amended standards for CCW, published in the Federal Register on Friday, January 8, 2010 (75 FR 1122) and applicable as of January 1, 2013, DOE erroneously deleted reference to these EPACT 2005 standards.

DATES: This correction is effective on November 8, 2011. The effective date of the rule published Friday, January 8, 2010, was March 9, 2010. The standards established in that final rule will be applicable starting January 8, 2013.

FOR FURTHER INFORMATION CONTACT: Stephen L. Witkowski, U.S. Department of Energy, Office of Energy Efficiency and Renewable Energy, Building Technologies Program, EE-2J, 1000 Independence Avenue SW., Washington, DC 20585-0121. Telephone: (202) 586-7463. Email: Stephen.Witkowski@ee.doe.gov.

Elizabeth Kohl, Esq., U.S. Department of Energy, Office of General Counsel, GC-71, 1000 Independence Avenue SW., Washington, DC 20585-0121. Telephone: (202) 586-7796. Email: Elizabeth.Kohl@hq.doe.gov.

SUPPLEMENTARY INFORMATION: DOE published amended energy and water conservation standards for commercial clothes washers on January 8, 2010 (75 FR 1122). Compliance with these amended standards is required as of January 1, 2103. Prior to January 1, 2013, manufacturers are required to meet the standards established by Title III, Part C ¹ of the Energy Policy and Conservation Act of 1975 (EPCA or the Act), Public Law 94-163 (42 U.S.C. 6311-6317, as codified), as amended by the Energy Policy Act of 2005 (EPACT 2005; Pub. L. 109-058). Those standards require that CCWs manufactured on or after January 1, 2007 have a modified energy factor (MEF) of at least 1.26 cubic feet of capacity (ft ³) per kilowatt-hour (kWh) and a water factor (WF) of not more than 9.5 gallons of water (gal) per ft ³. (42 U.S.C. 6313(e)) The EPACT 2005 standards were previously codified in title 10 of the Code of Federal Regulations (CFR) part 431, subpart I, section 431.156 (70 FR 60407, Oct. 5, 2008). In the January 8, 2010 final rule, however, DOE mistakenly deleted the EPACT 2005 standards from the regulatory text. This final rule reinserts the EPACT 2005 standards, which are applicable until January 1, 2013, into the regulatory text.

¹ For editorial reasons, upon codification in the U.S. Code, Part C was redesignated Part A-1.

Procedural Issues and Regulatory Review

The regulatory reviews conducted for this rulemaking are those set forth in the October 8, 2005 final rule that originally codified the EPACT 2005 standards into DOE's regulations.

Pursuant to the Administrative Procedure Act, 5 U.S.C. 553(b), DOE has determined that notice and prior opportunity for comment on this rule are unnecessary and contrary to the public interest. The standards being reinstated into DOE's regulations in today's final rule are currently required by EPACT 2005. DOE previously codified these standards in its regulations in the October 2005 final rule without prior opportunity for comment given the EPACT 2005 directive. DOE has determined that there is good cause to waive the 30-day delay in effective date for these same reasons.

List of Subjects in 10 CFR Part 431

Administrative practice and procedure, Confidential business information, Energy conservation, Household appliances, Imports, Intragovernmental relations, Reporting and recordkeeping requirements, and Small businesses.

Accordingly, part 431 of chapter II, subchapter D, of title 10 of the Code of Federal Regulations, is corrected by making the following correcting amendments:

PART 431—ENERGY EFFICIENCY PROGRAM FOR CERTAIN COMMERCIAL AND INDUSTRIAL EQUIPMENT

1. The authority citation for part 431 continues to read as follows:

Authority: 42 U.S.C. 6291-6317.

2. Section 431.156 of subpart I is revised to read as follows:

§ 431.156 Energy and water conservation standards and effective dates.

(a) Each commercial clothes washer manufactured between January 1, 2007, and January 8, 2013, shall have—

(1) A modified energy factor of at least 1.26; and

(2) A water consumption factor of not more than 9.5.

(b) Each commercial clothes washer manufactured on or after January 8, 2013, shall have a modified energy factor no less than and a water factor no greater than:

Equipment class | Modified energy factor, cu. ft./kWh/cycle | Water factor, gal./cu. ft./cycle
Top-Loading | 1.60 | 8.5
Front-Loading | 2.00 | 5.5

Issued in Washington, DC, on November 1, 2011.
Kathleen B. Hogan,
Deputy Assistant Secretary for Energy Efficiency, Energy Efficiency and Renewable Energy.

[FR Doc. 2011-28920 Filed 11-7-11; 8:45 am]

BILLING CODE 6450-01-P